DEPARTMENT OF THE INTERIOR

National Park Service

[NPS-WASO-NAGPRA-12561;

PPWOCRADN0-PCU00RP14.R50000]

Notice of Inventory Completion: U.S. Department of the Interior, Bureau of Indian Affairs, Washington, DC, and the University of Denver Department of Anthropology and Museum of Anthropology, Denver, CO

AGENCY: National Park Service, Interior.

ACTION: Notice.

SUMMARY: The U.S. Department of the Interior, Bureau of Indian Affairs, and the University of Denver Department of Anthropology and Museum of Anthropology, have completed an inventory of human remains and associated funerary objects, in consultation with the appropriate Indian tribes or Native Hawaiian organizations, and have determined that there is a cultural affiliation between the human remains and associated funerary objects and present-day Indian tribes or Native Hawaiian organizations. Lineal descendants or representatives of any Indian tribe or Native Hawaiian organization not identified in this notice that wish to request transfer of control of these human remains and associated funerary objects should submit a written request to the U.S. Department of the Interior, Bureau of Indian Affairs. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the U.S. Department of the Interior, Bureau of Indian Affairs at the address in this notice by May 10, 2013.

ADDRESSES: Anna Pardo, Museum Program Manager/NAGPRA Coordinator, U.S. Department of the Interior, Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC, and in the physical custody of University of Denver Department of Anthropology and Museum of Anthropology. The human remains and associated funerary objects were removed from a site located south from the town of Bluff, in San Juan County, UT, and on the Navajo Indian Reservation.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Denver Department of Anthropology and Museum of Anthropology professional staff in consultation with representatives of Jicarilla Apache Nation, New Mexico; Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Pojoaque, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; and the Zuni Tribe of the Zuni Reservation, New Mexico. The following tribes were invited to consult and were sent copies of the cultural affiliation findings for comment: Hopi Tribe of Arizona; Kewa Pueblo, New Mexico (previously listed as the Pueblo of Santo Domingo); Pueblo of Picuris, New Mexico; Pueblo of San Felipe, New Mexico; Pueblo of San Ildefonso, New Mexico; Skull Valley Band of Goshute Indians of Utah; Ute Indian Tribe of the Uintah & Ouray Reservation, Utah; and Ysleta Del Sur Pueblo of Texas.

History and Description of the Remains

In June 1978, human remains representing, at minimum, one individual were removed from a site referenced in documentation as UT W:10:2, located south of the town of Bluff, in San Juan County, UT, by Mimi Kiser, a University of Denver student, who donated the remains to the University's Museum of Anthropology in December 1978. No known individuals were identified. The 47 associated funerary objects are one non-human tooth; one piece of fabric, woven cotton; one grass seed head; three pieces of knotted cordage with what appears to be feathers; nine cordage fragments; 24 knotted fibers; four hoops of fiber; one lot of knotted fiber; and three unidentified organic items.

Prior to the beginning of a University of Denver archeology field school project at Butler Wash, Ms. Kiser hiked south of Bluff, UT, crossing the San Juan River, and came upon a room block, a kiva, and a pithouse located on one side of a crevice overlooked by a cliff. The architecture is described as being nestled against the indented cliff, providing sufficient protection. The burial was found less than one foot below the ground surface in sedimentary sand. The burial was found in a flexed position. Corn, knots, and twine were buried with the human remains, though no ceramics were found. The presence of twine and cord, a sandal, and corn along with the absence of ceramics would suggest a late Basketmaker or early Pueblo assemblage. There is a well-documented cultural affiliation between these groups and the modern-day Pueblo tribes. Migration stories and oral histories specify the Four Corners area as being highly significant to the ancestors of the Pueblos. Review of the field records and maps associated with the excavation of the site, and review of the land ownership records of the areas south of Bluff, indicate that the site is on the Navajo Indian Reservation.

Based on the preponderance of evidence, including archeology, architecture, material culture, oral traditions, and expert opinion, officials of the Bureau of Indian Affairs have reasonably determined that the Native American human remains are ancestral Puebloan. Descendants of ancestral Puebloan culture are members of the present-day tribes of the Hopi Tribe of Arizona; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta Del Sur Pueblo of Texas; and Zuni Tribe of the Zuni Reservation, New Mexico (hereafter referred to as “The Tribes”).

Determinations Made by the U.S. Department of the Interior, Bureau of Indian Affairs, Washington, DC, and the University of Denver Department of Anthropology and Museum of Anthropology

Officials of the Bureau of Indian Affairs and the University of Denver Department of Anthropology and Museum of Anthropology have determined that:

• Pursuant to 25 U.S.C. 3001(9), the human remains described in this notice represent the physical remains of one individual of Native American ancestry.

• Pursuant to 25 U.S.C. 3001(3)(A), the 47 objects described above are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian tribe or Native Hawaiian organization not identified in this notice that wish to request transfer of control of these human remains and associated funerary objects should submit a written request with information in support of the request to Anna Pardo, Museum Program Manager/NAGPRA Coordinator, U.S. Department of the Interior, Indian Affairs, 12220 Sunrise Valley Drive, Room 6084, Reston, VA 20191, telephone (703) 390-6343, email Anna.Pardo@bia.gov, by May 10, 2013. After that date, if no additional requestors have come forward, transfer of control of the human remains and associated funerary objects to The Tribes may proceed after that date if no additional claimants come forward.

The Bureau of Indian Affairs is responsible for notifying The Tribes that this notice has been published.

Dated: March 13, 2013.
Sherry Hutt,
Manager, National NAGPRA Program.

[FR Doc. 2013-08379 Filed 4-9-13; 8:45 am]

BILLING CODE 4312-50-P